DEPARTMENT OF STATE

[Public Notice 6424]

Bureau of Educational and Cultural Affairs (ECA) Request for Grant Proposals: Youth Leadership Program With Algeria, the Philippines, or Serbia

Announcement Type: New Grant.

Funding Opportunity Number: ECA/PE/C/PY-09-10.

Catalog of Federal Domestic Assistance Number: 00.000.

Application Deadline: January 9, 2009.

Executive Summary: The Office of Citizen Exchanges, Youth Programs Division, of the Bureau of Educational and Cultural Affairs announces an open competition for Youth Leadership Programs supporting exchanges with Algeria, the Philippines, or Serbia. Public and private non-profit organizations meeting the provisions described in Internal Revenue Code section 26 U.S.C. 501(c)(3) may submit separate proposals for grants that will support youth and adult participants from one of these three countries in a U.S.-based exchange program that explores civic education, leadership development, respect for diversity, and community activism. The program will conclude with follow-on activities in the participants' home countries in which they apply the knowledge and skills acquired during the exchange experience.

I. Funding Opportunity Description:

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the Algeria and Philippines programs is provided through legislation. The funding authority for the program with Serbia is provided through the Support for East European Democracy (SEED) Act (1989).

Purpose: Through these grants, the Youth Leadership Program provides an opportunity for teenagers (ages 15-17) and adult educators in Algeria, the Philippines, and Serbia to participate in intensive, thematic, four- to six-week-long exchanges in the United States that complement a more formal education in the principles of a civil society. The Serbia Program also includes an exchange component for American teenagers. The overarching goal is for the exchange participants and their American counterparts to develop a broad worldview that incorporates diverse perspectives and for the alumni to apply their skills toward productive and positive outlets in their home communities.

The program will enable participants to:

(1) To develop their sense of civic responsibility and commitment to community development;

(2) To become part of a cadre of community activists who will share their knowledge and skills with their peers through positive action and collaboration;

(3) To foster understanding and build relationships with youth from different ethnic, religious, and national groups;

(4) To promote mutual understanding between the people of their country and the United States.

Applicant organizations should identify their own specific objectives and measurable outcomes based on these program goals and the specifications provided in this solicitation.

The exchange format will be intensive and interactive, weaving together both formal and informal sessions to achieve the stated goals and objectives. Applicants must present a program plan that allows the participants to thoroughly explore the themes in a creative, memorable, and practical way. All activities should be designed to be replicable and provide practical knowledge and skills that the participants can apply to school and civic activities at home.

Applicants must demonstrate their capacity for doing programs of this nature, focusing on three areas of competency: (1) Provision of programs that address the goals and themes outlined in this document; (2) age-appropriate programming for youth; and (3) previous experience in working with the selected country or its region.

Applicant organizations need to have the necessary capacity in the partner country through a branch office, a partner organization, or other affiliates that have the demonstrated ability to conduct the specified activities in the partner country.

Should organizations wish to apply for a grant with more than one country, they must submit a separate proposal for each. Each of the three country programs will be judged independently and proposals for a particular country will be compared only to proposals for the same country.

Please see information specific to the program with each country below.

Algeria

Objective: To promote interaction among youth from Algeria and the United States and assist the participants in jointly developing their leadership skills.

Program focus: The applicant should present a program plan that focuses on leadership development, respect for diversity, and civic education. The applicant should also choose one of these two themes as an additional focus: (1) Media Literacy: How to analyze, access, evaluate and produce media; the impact of mass media on individuals and societies; and journalism techniques for sharing the voices of youth for positive action in their communities. (2) Business/Entrepreneurship: The study of applied economics, practical business skills, entrepreneurship, and related ethics and leadership education, including creating an effective business plan and establishing good business practices.

Note: The program will be implemented by a partnership of the Public Affairs Section in the U.S. Embassy in Algiers and the U.S. grantee organization. The Embassy will be responsible for recruiting, screening, and selecting the Algerian participants, while the U.S. grantee organization will be responsible for selecting the U.S. participants, travel logistics, an English language workshop in Algeria, the U.S.-based exchange activity, and follow-on activities with alumni.

Participants: 25 high school students and 2-3 adults from Algeria, plus 10 American high school students who will participate in the U.S.-based activities with the Algerian students.

Timeframe: The U.S.-based exchange program should take place between mid-July and mid-August, 2009. The U.S. program should be no less than four weeks in duration, preceded by up to two weeks of intensive English training that takes place in Algeria.

Amount of grant funds available: $275,000. The Bureau intends to award one grant.

Philippines

Objective: To advance dialogue and mutual understanding between Americans and Filipinos and between Muslim and non-Muslim youth from the Autonomous Region of Muslim Mindanao and surrounding provinces, leading to the cooperative implementation of service projects in Mindanao.

Program focus: The U.S. program should focus primarily on ways that youth can work collaboratively across ethnic and religious lines. All activities should be related to developing open dialogues among the participants through which they can develop strategies to work together to help solve some of the common challenges they face as teenagers in Mindanao. Participants will also gain a more thorough understanding of how democracy is practiced in the United States, particularly at the grassroots level, including community activism, minority rights, and the responsibilities of citizens.

Participants: 21-27 teenagers and 4-5 adults from the Autonomous Region of Muslim Mindanao (ARMM) and surrounding areas. Both the youth and adult contingents should represent the diversity of the region.

Time frame: The four- to six-week U.S.-based exchange program should take place between January and June 2010.

Amount of grant funds available: $275,000. The Bureau intends to award one grant.

Serbia

Objective: To promote interaction among youth from Serbia and the United States through reciprocal exchanges while introducing the two groups to how democracy is practiced in each country, the rights and responsibilities of citizens, and how community service allows youth to be proactive participants in their communities.

Program focus: There will be six exchange delegations from Serbia to the United States, and two to four exchange delegations of Americans to Serbia. Each exchange will focus on a specific theme related to participatory governance, such as grassroots activism, the rule of law, religious freedom, the role of local and municipal governments, ethnic tolerance and living in a multi-ethnic society, and student activism/student government.

Participants: Approximately 130 teenagers and educators (teachers or community leaders who work with youth) from Serbia who will travel to the U.S. for four weeks in six exchange delegations of 20-25 each. Approximately 30 U.S. teenagers and educators will travel to Serbia in groups of 7 to 15.

Time frame: The four-week Serbia-to-U.S. exchanges may take place between late 2009 and the end of 2010. The U.S-to-Serbia exchanges, which may be two to four weeks in duration, may take place between or after the Serbia-to-U.S. exchanges. The grant(s) may span up to two years.

Amount of grant funds available: $1,355,000. The Bureau intends to award one or two grants. Applicants may apply to conduct the entire program, utilizing all of the grant funds. Alternatively, organizations may apply for a grant of roughly half the amount of funding available, in which case ECA may award grants to two organizations. These two organizations will be required to work in cooperation with each other in order to avoid public confusion between the two projects.

Guidelines for All Three Countries

Grants will begin in spring 2009. The grant period will be 12 to 24 months in duration, as appropriate to the program design.

In pursuit of the goals outlined above, the programs will include the following:

• Recruitment, screening, and selection of the youth participants and adult educators (exception with Algerian participants—the U.S. Embassy will complete this step).

• A pre-departure orientation program.

• Designing and planning of substantive and well-organized activities in the United States (and in Serbia) on leadership development, civic education, and community service. Some activities should be school and/or community-based, as feasible, and the programs will involve extensive interaction with American peers.

• Logistical arrangements, homestay arrangements and other accommodation, provisions for religious observance, disbursement of stipends/per diem, and international and local travel.

• Follow-on activities in the participants' home countries designed to reinforce the ideas, values, and skills imparted during the U.S. program.

Recruitment and Selection: With the exception of proposals for Algeria, applicants should present a recruitment plan for the foreign participants in their proposals. Upon receipt of a grant, the recipients must consult with the Public Affairs Sections at the U.S. Embassies to review the recruitment and participant selection plan. Organizers must strive for regional and ethnic diversity within the partner country. For the Algeria and Serbia programs, the applicant must present a plan for a competitive, merit-based selection process for the American participants. The Department of State and/or its overseas representatives must approve all selected delegations.

Participants: The student participants will be teenagers aged 15 to 17. Selected participants will demonstrate leadership potential and an interest in serving their communities, as well as strong social and academic skills, overall composure, openness and flexibility. The adult participants will be secondary school teachers or administrators and/or community leaders who work with youth. The adult participants will be exchange participants first and foremost, but will also serve as chaperones and advisors. Participants will be proficient in English.

U.S. Exchange Activities: Each program may take place in one to three communities and should offer the participants exposure to the variety of American life. The exchange programs should consist primarily of interactive activities, practical experiences, and other hands-on opportunities that enable participants to learn about the fundamentals of a civil society, as well as the underlying concepts of leadership, volunteerism, and positive participation in civic life. These topics must be thoughtfully addressed through focused community and/or school-based program activities. Format suggestions include simulations, case studies, workshops, site visits, discussion groups, mock trials, facilitated role plays, volunteer service projects, and leadership training exercises. Programming must include regular and substantive involvement by American peers as much as possible in order to give participants from both countries insight into working with members of the other culture. The participants will have homestays with properly selected local families for most of the exchange period. Cultural, social, and recreational activities will balance the schedule. Please see the POGI for more details.

The exchange activities of the American students and teachers in Serbia should follow up on the same themes and topics as the U.S. activity. These participants must have substantive educational activities during the exchange, which will also introduce them to home, school, and community life in Serbia.

Follow-on Activities and In-Country Programming: Follow-on activities for alumni are an essential component of the program. Applicants should present creative and effective ways to continue dialogue on the program themes, for both participants and their peers, as a means to amplify the program impact, which may include blogs, Web sites, newsletters, or listservs. One or two U.S. project staff, trainers, or educators should arrange a trip to the partner country three to six months after the U.S. exchange to help reinforce the U.S. experience.

Grant recipients will use the name “[Country] Youth Leadership Program” to identify their program. All participants and alumni should identify themselves with the Youth Leadership Program (YLP). Materials produced for grant activities need to acknowledge the State Department as the sponsor and reflect the State Department's goals for the program.

The Bureau reserves the right to reduce, revise, or increase proposal budgets and participant numbers in accordance with the needs of the program and the availability of funds.

Proposals must demonstrate how the stated objectives will be met. The proposal narrative should provide detailed information on the major program activities, and applicants should explain and justify their programmatic choices. Programs must comply with J-1 visa regulations. Please refer to the complete Solicitation Package—this RFGP, the Project Objectives, Goals, and Implementation (POGI), and the Proposal Submission Instructions (PSI)—for further information.

II. Award Information

Type of Award: Grant Agreement.

Fiscal Year Funds: FY-2009, pending availability of funds.

Approximate Total Funding: $1,905,000.

Approximate Number of Awards: 3-4.

Floor of Award Range: $275,000.

Ceiling of Award Range: $1,355,000.

Anticipated Award Date: Pending availability of funds, April 15, 2009.

Anticipated Project Completion Date: 12 to 24 months after the onset of the award, to be determined by the applicant according to its program design.

Additional Information: Pending successful implementation of these programs and the availability of funds in subsequent fiscal years, it is ECA's intent to renew these grants for two additional fiscal years, before openly competing them again.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements: (a) Bureau grant guidelines require that organizations with less than four years experience in conducting international exchanges be limited to $60,000 in Bureau funding. ECA anticipates making awards in amounts exceeding $60,000 to support program and administrative costs required to implement these exchange programs. Therefore, organizations with less than four years experience in conducting international exchanges are ineligible to apply under this competition. The Bureau encourages applicants to provide maximum levels of cost sharing and funding in support of its programs.

IV. Application and Submission Information

Note: Please read the complete announcement before sending inquiries or submitting proposals. Once the RFGP deadline has passed, Bureau staff may not discuss this competition with applicants until the proposal review process has been completed.

IV.1 Contact Information To Request an Application Package: Please contact the Youth Programs Division, ECA/PE/C/PY, U.S. Department of State, SA-44, 301 4th Street, SW., Room 568, Washington, DC 20547, telephone: (202) 453-8171, fax: (202) 453-8169, E-mail: PiersonCompeauHM@state.gov to request a Solicitation Package. Please refer to the Funding Opportunity Number ECA/PE/C/PY-09-10 located at the top of this announcement when making your request. Alternatively, an electronic application package may be obtained from grants.gov. Please see section IV.3f for further information.

The Solicitation Package contains the Proposal Submission Instruction (PSI) document which consists of required application forms, and standard guidelines for proposal preparation. It also contains the Project Objectives, Goals and Implementation (POGI) document, which provides specific information, award criteria and budget instructions tailored to this competition.

Please specify Program Officer Carolyn Lantz and refer to the Funding Opportunity Number ECA/PE/C/PY-09-10 located at the top of this announcement on all other inquiries and correspondence.

IV.2. To Download a Solicitation Package Via Internet: The entire Solicitation Package may be downloaded from the Bureau's Web site at http://exchanges.state.gov/education/rfgps/menu.htm, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF—424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. Please note: Effective March 14, 2008, all applicants for ECA federal assistance awards must include with their application, a copy of page 5, Part V-A, “Current Officers, Directors, Trustees, and Key Employees” of their most recent Internal Revenue Service (IRS) Form 990, “Return of Organization Exempt From Income Tax.” If an applicant does not file an IRS Form 990, but instead files Schedule A (Form 990 or 990-EZ)—“Organization Exempt Under Section 501(c)(3),” applicants must include with their application a copy of Page 1, Part 1, “Compensation of the Five Highest Paid Employees Other Than Officers, Directors and Trustees,” of their most recent Internal Revenue Service (IRS) Form—Schedule A (Form 990 or 990-EZ).

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence To All Regulations Governing The J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving awards (either a grant or cooperative agreement) under this RFGP will be third parties “cooperating with or assisting the sponsor in the conduct of the sponsor's program.” The actions of recipient organizations shall be “imputed to the sponsor in evaluating the sponsor's compliance with” 22 CFR part 62. Therefore, the Bureau expects that any organization receiving an award under this competition will render all assistance necessary to enable the Bureau to fully comply with 22 CFR part 62 et seq.

The Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from:

United States Department of State, Office of Exchange Coordination and Designation, ECA/EC/ECD—SA-44, Room 734, 301 4th Street, SW., Washington, DC 20547, Telephone: (202) 203-5029, FAX: (202) 453-8640.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

IV.3d.3.—Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable timeframe), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change.

Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3d.4. For informational and planning purposes, we are informing all potential applicants that ECA is in the process of developing comprehensive approaches to alumni programming, Web portal development supported through ECA assistance awards (grants/cooperative agreements) and the expansion of private/public partnerships to increase the reach of ECA's exchange programs. In the event your proposal is recommended for funding, you may receive additional guidance/information related to these topics during the negotiation stage of the approval process.

In addition, all recipients of ECA grants or cooperative agreements should be prepared to state in any announcement or publicity where it is not inappropriate, that activities are assisted financially by the Bureau of Educational and Cultural Affairs of the United States Department of State under the authority of the Fulbright-Hays Act of 1961, as amended. Award recipients are strongly encouraged to use the Department seal on all promotional and related materials for ECA funded programs which support the commemoration of special occasions or events, but only after first obtaining written permission from the ECA program office(r) assigned to the project.

IV.3e. Please take the following information into consideration when preparing your budget:

IV.3e.1. Applicants must submit a comprehensive budget for the entire program. There must be a summary budget as well as breakdowns reflecting both administrative and program budgets. Applicants may provide separate sub-budgets for each program component, phase, location, or activity to provide clarification.

Funding levels for each country are as follows:

Algeria: One grant. Grant request $275,000 maximum.

Philippines: One grant. Grant request $275,000 maximum.

Serbia: One or two grants. Grant request $650,000 minimum, $1,355,000 maximum.

Please refer to the Solicitation Package for complete budget guidelines and formatting instructions.

IV.3f.—Application Deadline and Methods of Submission

Application Deadline Date: Friday, January 9, 2009.

Reference Number: ECA/PE/C/PY-09-10.

Methods of Submission:

Applications may be submitted in one of two ways:

(1) In hard-copy, via a nationally recognized overnight delivery service (i.e., DHL, Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1—Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and six copies of the application should be sent to: U.S. Department of State, SA-44, Bureau of Educational and Cultural Affairs, Ref.: ECA/PE/C/PY-09-10, Program Management, ECA/EX/PM, Room 534, 301 4th Street, SW., Washington, DC 20547.

With the submission of the proposal package, please also e-mail the Executive Summary, Proposal Narrative, and Budget sections of the proposal, as well as any essential attachments, in Microsoft Word and/or Excel to the program office at ORourkeMM@state.gov (Algeria), PiersonCompeauHM@state.gov (Philippines and Serbia), and LantzCS@state.gov (all). The Bureau will provide these files electronically to the relevant U.S. Embassies for their review.

IV.3f.2—Submitting Electronic Applications

Applicants have the option of submitting proposals electronically through Grants.gov (http://www.grants.gov). Complete solicitation packages are available at Grants.gov in the “Find” portion of the system. Please follow the instructions available in the “Get Started” portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to:

Grants.gov Customer Support,

Contact Center Phone: 800-518-4726,

Business Hours: Monday-Friday, 7 a.m.-9 p.m. Eastern Time,

E-mail: support@grants.gov.

Applicants have until midnight (12 a.m.), Washington, DC time of the closing date to ensure that their entire application has been uploaded to the Grants.gov site. There are no exceptions to the above deadline. Applications uploaded to the site after midnight of the application deadline date will be automatically rejected by the Grants.gov system, and will be technically ineligible.

Please refer to the Grants.gov Web site, for definitions of various “application statuses” and the difference between a submission receipt and a submission validation. Applicants will receive a validation e-mail from Grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

Technically eligible applications will be competitively reviewed according to the criteria stated below:

1. Quality of the program idea: The proposed program should be well developed, respond to design outlined in the solicitation, and demonstrate originality. It should be clearly and accurately written, substantive, and with sufficient detail. Proposals should exhibit originality, substance, precision, and relevance to the Bureau's mission.

2. Program planning and ability to achieve program objectives: A detailed agenda and work plan should clearly demonstrate how project objectives will be achieved. The agenda and plan should adhere to the program overview and guidelines described above. The substance of workshops, seminars, presentations, school-based activities, and/or site visits should be described in detail. Objectives should be reasonable, feasible, and flexible. The proposal should clearly demonstrate how the institution will meet the program's objectives and plan.

3. Support of diversity: The proposal should demonstrate the recipient's commitment to promoting the awareness and understanding of diversity in program content. Applicants should demonstrate readiness to accommodate participants with physical disabilities.

4. Institutional capacity and track record: Proposed personnel and institutional resources should be adequate and appropriate to achieve the program goals. The proposal should demonstrate an institutional record, including responsible fiscal management and full compliance with all reporting requirements for past Bureau awards (grants or cooperative agreements) as determined by the Bureau's Office of Contracts. The Bureau will consider the past performance.

5. Program evaluation: The proposal should include a plan to evaluate the activity's success, both as the activities unfold and at the end of the program. The proposal should include a draft survey questionnaire or other technique plus description of a methodology to use to link outcomes to original project objectives. The grant recipient will be expected to submit intermediate reports after each project component is concluded.

6. Cost-effectiveness and cost sharing: The applicant should demonstrate efficient use of Bureau funds. The overhead and administrative components of the proposal, including salaries and honoraria, should be kept as low as possible. All other items should be necessary and appropriate. The proposal should maximize cost-sharing through other private sector support as well as institutional direct funding contributions, which demonstrates institutional and community commitment.

VI. Award Administration Information

VI.1a. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information:

http://www.whitehouse.gov/omb/grants

http://fa.statebuy.state.gov

VI.3. Reporting Requirements: You must provide ECA with a hard copy original plus one copy of the following reports:

(1) A final program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements.

(3) Interim reports, as required in the Bureau grant agreement.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Carolyn Lantz, Program Officer, Youth Programs Division, Office of Citizen Exchanges, ECA/PE/C/PY, Room 568, U.S. Department of State, SA-44, 301 4th Street, SW., Washington, DC 20547, Telephone: (202) 203-7505, Fax: (202) 203-7529, E-mail: LantzCS@state.gov.

All correspondence with the Bureau concerning this RFGP should reference the above title and number ECA/PE/C/PY-09-10.

Please read the complete announcement before sending inquiries or submitting proposals. Once the RFGP deadline has passed, Bureau staff may not discuss this competition with applicants until the proposal review process has been completed.

VIII. Other Information

Notice:

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Goli Ameri,
Assistant Secretary for Educational and Cultural Affairs, Department of State.

[FR Doc. E8-26948 Filed 11-13-08; 8:45 am]

BILLING CODE 4710-05-P